DEPARTMENT OF HOUSING AND URBAN DEVELOPMENT

[Docket No. FR-4630-N-33]

Announcement of Funding Awards for Fiscal Year 2001 Early Doctoral Student Research Grant Program

AGENCY: Office of the Assistant Secretary for Policy Development and Research, HUD.

ACTION: Announcement of funding awards.

SUMMARY: In accordance with section 102(a)(4)(C) of the Department of Housing and Urban Development Reform Act of 1989, this document notifies the public of funding awards for the Fiscal Year 2001 Early Doctoral Student Research Grant (EDSRG) Program. The purpose of this document is to announce the names and addresses of the award winners and the amount of the awards to be used to help doctoral students cultivate their research skills through the preparation of research manuscripts that focus on housing and urban development issues.

FOR FURTHER INFORMATION CONTACT: Jane Karadbil, Office of University Partnerships, U.S. Department of Housing and Urban Development, Room 8110, 451 Seventh Street, SW., Washington, DC 20410, telephone (202) 708-1537, extension 5918. To provide service for persons who are hearing- or speech-impaired, this number may be reached via TTY by dialing the Federal Information Relay Service on (800) 877-8399, or 202-708-1455. (Telephone numbers, other than the two “800” numbers, are not toll free.)

SUPPLEMENTARY INFORMATION: The EDSRG program is administered by the Office of University Partnerships under the Assistant Secretary for Policy Development and Research (PD&R). This Office also administers PD&R's other grant programs for academics.

The EDSRG Program was created as a means of expanding the number of researchers conducting research on subjects of interest to HUD. Students, who are in the early stages of their doctoral studies, have 15 months to complete a major research study. Grants can be up to $15,000 each.

The Catalog of Federal Domestic Assistance number for this program is 14.517.

On February 26, 2001 (66 FR 12409) HUD published a Notice of Funding Availability (NOFA) announcing the availability of $150,000 in FY 2001 funds for the EDSRG Program. The Department reviewed, evaluated and scored the applications received based on the criteria in the NOFA. As a result, HUD has funded the applications announced below, and in accordance with Section 102(a)(4)(C) of the Department of Housing and Urban Development Reform Act of 1989 (103 Stat. 1987, U.S.C. 3545), the Department is publishing details concerning the recipients of funding awards, as set forth below. More information about the winners can be found at www.oup.org.

List of Awardees for Grant Assistance Under the FY 2001 Early Doctoral Student Reseach Grant Program Funding Competition, by Name, Address, Phone Number, Grant Amount and Number of Students Funded

1. Massachusetts Institute of Technology, Dr. Langley Keyes, Urban Studies and Planning, 77 Massachusetts Avenue, Cambridge, MA 02139, (617) 253-1540. Grant: $15,000 to Laurie S. Goldman.

2. Ohio State University, Dr. Robert Greenbaum, School of Public Policy and Management, 300 Fisher Hall, 2100 Neill Avenue, Columbus, OH 43210, (614) 292-9578. Grant: $15,000 to Thomas Mlay.

3. Ohio State University, Dr. Donald Haurin, College of Social and Behavioral Sciences, 1010 Derby Hall, 154 N. Oval Mall, Columbus, OH 43210, (614) 292-8448. Grant: $15,000 to Lariece M. Grant.

4. University of Colorado, Dr. Willem van Vliet, College of Architecture and Planning, Campus Box 314, Boulder, CO 80309, (303) 492-5015. Grant: $14,135 to Jennifer Steffel.

5. University of Illinois at Chicago, Dr. Janet Smith, Urban Planning and Policy Program, 412 South Peoria Street, Chicago, IL 60607, (312) 996-2151. Grant: $15,000 to Barbara A. Sherry.

6. University of Illinois at Urbana-Champaign, Dr. Gerrit Knaap, Urban and Regional Planning, 111 Temple Buell Hall, 611 Taft Drive, Champaign, IL 61820, (217) 333-3890. Grant: $15,000 to Yan Song.

7. University of North Carolina at Chapel Hill, Dr. Roberto Quercia, Center for Urban and Regional Studies, Howell Hall CB 3140, Chapel Hill, NC 27599, (919) 962-4766. Grant: $15,000 to Lisa K. Bates.

8. University of Pennsylvania, Dr. Eugenie Birch, City and Regional Planning, 127 Meyerson Hall, Philadelphia, PA 19104, (215) 898-8329. Grant: $15,000 to Laura Lanza.

9. University of Southern California, Dr. Yongheng Deng, School of Policy, Planning and Development, Lewis Hall, Room 331, Los Angeles, CA 90089, (213) 740-5000. Grant: $15,000 to Zhou Yu.

10. Washington University, Dr. Michael Sherraden, George Warren School of Social Work, One Brookings Drive, Campus Box 1196, St. Louis, MO 63130, (314) 935-6691. Grant: $15,000 to Michal Grinstein-Weiss.

Dated: July 26, 2001.
Lawrence L. Thompson,
General Deputy Assistant Secretary for Policy Development and Research.

[FR Doc. 01-20165 Filed 8-10-01; 8:45 am]

BILLING CODE 4210-62-P